DEPARTMENT OF ENERGY

10 CFR Part 431

[EERE-2017-BT-STD-0009]

RIN 1904-AD79

Energy Conservation Program: Energy Conservation Standards for Walk-In Coolers and Walk-In Freezers

Correction

In rule document 2024-28474 beginning on page 104616 in the issue of Monday, December 23, 2024, make the following correction:

§ 431.306 [Corrected]

On page 104854, in Table 4 to paragraph (e)(1), in the fourth row, in the second column the text should read as follows: 9.091 × 10⁻⁵ × qnet + 1.81

[FR Doc. C1-2024-28474 Filed 1-6-25; 8:45 am]

BILLING CODE 1505-01-D